DEPARTMENT OF ENERGY

Federal Energy Regulatory Commission

[Docket No. RP04-56-000]

Great Lakes Gas Transmission Limited Partnership; Notice of Tariff Filing

November 18, 2003.

Take notice that on November 14, 2003, Great Lakes Gas Transmission Limited Partnership (Great Lakes) tendered for filing as part of its FERC Gas Tariff, Second Revised Volume No. 1, Fifteenth Revised Sheet No. 7 and Ninth Revised Sheet No. 48, proposed to be effective January 1, 2004.

Great Lakes states that the tariff sheets referenced above reflect a clarifying change to the date range stated in the tariff for the annual charge adjustment (ACA), and for the funding surcharges for the Gas Research Institute (GRI) for the year 2004.

Great Lakes states that these latter surcharges, which are at the same levels approved for use in 2003, were approved by the Commission in its Letter Order issued September 17, 2003, in Docket No. RP03-514-000, in which it also approved GRI's funding for its year 2004 research, development, and demonstration (RD&D) program and its 2004-2008 five-year RD&D plan.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the “e-Filing” link.

Magalie R. Salas,
Secretary.

[FR Doc. E3-00383 Filed 11-24-03; 8:45 am]

BILLING CODE 6717-01-P